DEPARTMENT OF AGRICULTURE

National Institute of Food and Agriculture

Solicitation of Veterinary Shortage Situation Nominations for the Veterinary Medicine Loan Repayment Program (VMLRP)

AGENCY: National Institute of Food and Agriculture, USDA.

ACTION: Notice and solicitation for nominations.

SUMMARY: The National Institute of Food and Agriculture (NIFA) is soliciting nominations of veterinary service shortage situations for the Veterinary Medicine Loan Repayment Program (VMLRP) for fiscal year (FY) 2018, as authorized under the National Veterinary Medical Services Act (NVMSA). This notice initiates the nomination period and prescribes the procedures and criteria to be used by eligible nominating officials (State, Insular Area, DC and Federal Lands) to nominate veterinary shortage situations.

Each year all eligible nominating officials may submit nominations, up to the maximum indicated for each entity in this notice. NIFA is conducting this solicitation of veterinary shortage situation nominations under an approved information collection (OMB Control Number 0524-0050).

DATES: Shortage situation nominations must be submitted on or before October 20, 2017.

ADDRESSES: Submissions must be made by clicking the submit button on the Veterinarian Shortage Situation nomination form provided in the VMLRP Shortage Situations section of the NIFA Web site at www.nifa.usda.gov/vmlrp.

This form is sent as a data file directly to the Veterinary Medicine Loan Repayment Program; National Institute of Food and Agriculture; U.S. Department of Agriculture.

FOR FURTHER INFORMATION CONTACT: Mark Robinson; National Program Leader; National Institute of Food and Agriculture; U.S. Department of Agriculture; Stop 2240; 1400 Independence Avenue SW.; Washington, DC 20250-2220; Voice: 202-401-1990; Fax: 202-401-6156; Email: vmlrp@nifa.usda.gov.

SUPPLEMENTARY INFORMATION:

Background and Purpose

Food supply veterinary medicine embraces a broad array of veterinary professional activities, specialties and responsibilities, and is defined as all aspects of veterinary medicine's involvement in food supply systems, from traditional agricultural production to consumption. A series of studies and reports 1 2 3 4 5 6 have drawn attention to maldistributions in the veterinary workforce leaving some communities, especially rural areas, with insufficient access to food supply veterinary services.

¹ Government Accountability Office, Veterinary Workforce: Actions Are Needed to Ensure Sufficient Capacity for Protecting Public and Animal Health, GAO-09-178: Feb 18, 2009).

² National Academies of Science, Workforce Needs in Veterinary Medicine, 2013.

³ Andrus DM, Gwinner KP, Prince, JB. Food Supply Veterinary Medicine Coalition Report: Estimating FSM Demand and Maintaining the Availability of Veterinarians in Food Supply Related Disciplines in the United States and Canada, 2016. https://www.avma.org/KB/Resources/Reference/Pages/Food-Supply-Veterinary-Medicine-Coalition-Report.aspx.

⁴ Andrus DM, Gwinner KP, Prince, JB. Future demand, probable shortages and strategies for creating a better future in food supply veterinary medicine. 2006, JAVMA 229(1):57-69.

⁵ Andrus DM, Gwinner KP, Prince, JB. Attracting students to careers in food supply veterinary medicine. 2006, JAVMA 228(1):16931704.

⁶ Andrus DM, Gwinner KP, Prince, JB. Job satisfaction, changes in occupational area and commitment to a career in food supply veterinary medicine. 2006, JAVMA 228(12):1884-1893.

Two programs, born out of this concern, aim to mitigate the maldistribution of the veterinary workforce: The Veterinary Medicine Loan Repayment Program (VMLRP) and Veterinary Services Grant Program (VSGP), both administered by USDA-NIFA. VMLRP addresses increasing veterinary school debt by offering veterinary school debt payments in exchange for service in shortage situations, while VSGP addresses other factors contributing to the maldistribution of veterinarians serving the agricultural sector. Specifically, the VSGP promotes availability and access to (1) specialized education and training which will enable veterinarians and veterinary technicians to provide services in designated veterinarian shortage situations, and (2) practice-enhancing equipment and personnel resources to enable veterinary practices to expand or improve access to veterinary services.

Paperwork Reduction Act

In accordance with the Office of Management and Budget (OMB) regulations (5 CFR part 1320) that implement the Paperwork Reduction Act of 1995 (44 U.S.C. Chapter 35), the information collection and recordkeeping requirements imposed by the implementation of these guidelines have been approved by OMB Control Number 0524-0050.

Table of Contents in Guidelines for Veterinary Shortage Situation Nominations

I. Preface and Authority

II. Nomination of Veterinary Shortage Situations

A. General

1. Eligible Shortage Situations

2. Authorized Respondents and Use of Consultation

3. State Allocation of Nominations

4. FY 2018 Shortage Situation Nomination Process

5. Submission and Due Date

6. Period Covered

7. Definitions

B. Nomination Form

C. NIFA Review of Shortage Situation Nominations

1. Review Panel Composition and Process

2. Review Criteria

Guidelines for Veterinary Shortage Situation Nominations

I. Preface and Authority

In January 2003, the National Veterinary Medical Service Act (NVMSA) was passed into law adding section 1415A to the National Agricultural Research, Extension, and Teaching Policy Act of 1997 (NARETPA). This law established a new Veterinary Medicine Loan Repayment Program (7 U.S.C. 3151a) authorizing the Secretary of Agriculture to carry out a program of entering into agreements with veterinarians under which they agree to provide veterinary services in veterinarian shortage situations. In FY 2010, NIFA announced the first funding opportunity for the VMLRP.

Section 7104 of the 2014 Farm Bill (Pub. L. 113-79) added section 1415B to NARETPA, as amended, (7 U.S.C. 3151b) to establish the Veterinary Services Grant Program (VSGP). This amendment authorizes the Secretary of Agriculture to make competitive grants to qualified entities and individual veterinarians that carry out programs in veterinarian shortage situations and for the purpose of developing, implementing, and sustaining veterinary services. Funding for the VSGP was first appropriated in FY 2016 through the Consolidated Appropriations Act, 2016 (Pub. L. 114-113).

Pursuant to the requirements enacted in the NVMSA of 2004 (as revised), and the implementing regulation for this Act, part 3431 subpart A of the VMLRP Final Rule [75 FR 20239-20248], NIFA hereby implements guidelines for eligible nominating officials to nominate veterinary shortage situations for the FY 2018 program cycle.

II. Nomination of Veterinary Shortage Situations

A. General

1. Eligible Shortage Situations

Section 1415A of NARETPA, as amended and revised by section 7105 of the Food, Conservation and Energy Act, directs determination of veterinarian shortage situations for the VMLRP to consider (1) geographical areas that the Secretary determines have a shortage of veterinarians; and (2) areas of veterinary practice that the Secretary determines have a shortage of veterinarians, such as food animal medicine, public health, epidemiology, and food safety. This section also added that priority should be given to agreements with veterinarians for the practice of food animal medicine in veterinarian shortage situations.

While the NVMSA (as amended) specifies priority be given to food animal medicine shortage situations, and that consideration also be given to specialty areas such as public health, epidemiology and food safety, the Act does not identify any areas of veterinary practice as ineligible. Accordingly, all nominated veterinary shortage situations will be considered eligible for submission.

A subset of the shortages designated for VMLRP applicants are also available to satisfy requirements, as applicable, for VSGP applicants. In addition, a shortage situation under the VSGP must also be designated rural as defined in section 343(a) of the Consolidated Farm and Rural Development Act (7 U.S.C. 1991(a)).

Nominations describing either public or private practice veterinary shortage situations are eligible for submission.

2. State Respondents and Use of Consultation

The only authorized respondent on behalf of each State is the chief State Animal Health Official (SAHO), as duly authorized by the Governor or the Governor's designee in each State. The eligible nominating official must submit nominations using the instructions provided in section A.4, FY 2018 Shortage Situation Nomination Process. NIFA strongly encourages the SAHO to involve leading health animal experts in the State in the identification and prioritization of shortage situation nominations.

3. State Allocation of Nominations

NIFA will accept the number of nominations equivalent to the maximum number of designated shortage areas for each State. For historical background and more information on the rationale for capping nominations and State allocation method, visit https://nifa.usda.gov/vmlrp-nomination-and-designation-veterinary-shortage-situations.

The maximum number of nominations (and potential designations) is based on data from the 2012 Agricultural Census conducted by the USDA National Agricultural Statistics Service (NASS). Awards from previous years have no bearing on a State's maximum number of allowable shortage nomination submissions or designations in any given year, or number of nominations or designations allowed for subsequent years. NIFA reserves the right in the future to proportionally adjust the maximum number of designated shortage situations per State to ensure a balance between available funds and the requirement to ensure that priority is given to mitigating veterinary shortages corresponding to situations of greatest need. Nomination Allocation tables for FY 2018 are available under the VMLRP Shortage Situations section of the VMLRP Web site at https://nifa.usda.gov/resource/vmlrp-shortage-allocations.

Table I lists the maximum nomination allocations by State. Table II lists “Special Consideration Areas” which include any State or Insular Area not reporting data to NASS, reporting less than $1,000,000 in annual Livestock and Livestock Products Total Sales ($), and/or possessing less than 500,000 acres. One nomination is allocated to any State or Insular Area classified as a Special Consideration Area.

Table III shows the values and quartile ranks of States for two variables broadly correlated with demand for food supply veterinary services: “Livestock and Livestock Products Total Sales ($)” (LPTS) and “Land Area (acres)” (LA). The maximum number of NIFA-designated shortage situations per State is based on the sum of quartile rankings for LPTS and LA for each State and can be found in Table IV.

While Federal Lands are widely dispersed within States and Insular Areas across the country, they constitute a composite total land area over twice the size of Alaska. If the 200-mile limit U.S. coastal waters and associated fishery areas are included, Federal Land total acreage would exceed 1 billion. Both State and Federal Animal Health officials have responsibilities for matters relating to terrestrial and aquatic food animal health on Federal Lands. Interaction between wildlife and domestic livestock, such as sheep and cattle, is particularly common in the plains States where significant portions of Federal lands are leased for grazing. Therefore, both SAHOs and the Chief Federal Animal Health Officer (Deputy Administrator of the Animal and Plant Health Inspection Service or designee) may submit nominations to address shortage situations on or related to Federal Lands.

NIFA emphasizes that the shortage nomination allocation is set to broadly balance the number of designated shortage situations across States prior to the nomination and award phases of the VMLRP and VSGP. Awards will be made based strictly on the peer review panels' assessment according to each program's review criteria; thus no State will be given a preference for placement of awardees. Additionally, each designated shortage situation will be limited to one award per program.

4. FY 2018 Shortage Situation Nomination Process

For the FY 2018 program cycle, all eligible nominating officials submitting may: (1) Request to retain designated status for any shortage situation successfully designated in FY 2017 and/or (2) submit new nominations. Any shortage from FY 2017 not retained or submitted as a new nomination will not be considered a shortage situation in FY 2018. The total number of new nominations plus designated nominations retained (carried over) may not exceed the maximum number of nominations each eligible nominating official is permitted.

The following process is the mechanism for retaining a designated nomination: Each SAHO should review the map of VMLRP designated shortage situations for FY 2017 (https://go.usa.gov/xRP2U) and download a PDF copy of the nomination form for each designated area that remains open (not awarded) in FY 2017. If the SAHO wishes to retain (carry over) one or more designated nomination(s), the SAHO shall copy and paste the prior year information into the current year's nomination form and select “SUBMIT”.

Both new and retained nominations must be submitted on the Veterinary Shortage Situation Nomination form provided in the VMLRP Shortage Situations section at https://nifa.usda.gov/vmlrp-shortage-situations.

Nominations retained (carried over) will be designated without review unless major changes in content are identified during administrative processing or the shortage has been retained for three years. Major changes in content or shortages already retained for three consecutive years will be treated as new submissions and undergo merit review.

5. Submission and Due Date

Submissions must be made by clicking the submit button on the Veterinarian Shortage Situation nomination form provided in the VMLRP Shortage Situations section at https://nifa.usda.gov/vmlrp-shortage-situations.

This form is sent as a data file directly to the Veterinary Medicine Loan Repayment Program; National Institute of Food and Agriculture; U.S. Department of Agriculture; Shortage situation nominations. Both new and retained (carry-over) nominations must be submitted on or before October 20, 2017.

6. Period Covered

Each shortage situation is approved for one program year cycle only. However, any previously approved shortage situation not filled in a given program year may be resubmitted as a retained (carry-over) nomination. Retained (carry-over) shortage nominations (without any revisions) will be automatically approved for up to three years before requiring another merit review. By resubmitting a carry-over nomination, the SAHO is affirming that in his or her professional judgment the original case made for shortage status, and the original description of needs, remain current and accurate.

7. Definitions

For the purpose of implementing the solicitation for veterinary shortage situations, the definitions provided in 7 CFR part 3431 are applicable.

B. Nomination Form

The VMLRP Shortage Nomination Form must be used to nominate veterinarian shortage situations. Once designated as a shortage situation, VMLRP applicants will use the information to select shortage situations they are willing and qualified to fill, and to guide the preparation of their applications. NIFA will use the information to assess contractual compliance of awardees. The form is available in the VMLRP Shortage Situations section at https://nifa.usda.gov/vmlrp-shortage-situations. See Part II A. 5. for submission information. Detailed directions for each field can be found at https://nifa.usda.gov/resource/vmlrp-veterinarian-shortage-situation-nomination-form-form-nifa-2009-0001.

C. NIFA Review of Shortage Situation Nominations

1. Review Panel Composition and Process

NIFA will convene a panel of food supply veterinary medicine experts from Federal and State agencies, as well as institutions receiving Animal Health and Disease Research Program funds under section 1433 of NARETPA, to review the nominations and make recommendations to the NIFA Program Manager. NIFA will review the panel's recommendations and designate the VMLRP shortage situations. The list of approved shortage situations will be made available on the VMLRP Web site at www.nifa.usda.gov/vmlrp.

2. Review Criteria

Criteria used by the shortage situation nomination review panel and NIFA for certifying a veterinary shortage situation will be consistent with the information requested in the shortage situations nomination form. NIFA understands the process for defining the risk landscape associated veterinary service shortages within a State may require consideration of many qualitative and quantitative factors. In addition, each shortage situation will be characterized by a different array of subjective and objective supportive information that must be developed into a cogent case identifying, characterizing, and justifying a given geographic or disciplinary area as deficient in certain types of veterinary capacity or service. To accommodate the uniqueness of each shortage situation, the nomination form provides opportunities to present a case using both supportive metrics and narrative explanations to define and explain the proposed need.

While NIFA anticipates some arguments made in support of a given shortage situation will be qualitative, respondents are encouraged to present verifiable quantitative and qualitative evidentiary information wherever possible. Absence of quantitative data such as animal and veterinarian census data for the proposed shortage area(s) may lead the panel to recommend disapproval of the shortage nomination.

The maximum point value that panelists may award for each element is as follows:

20 points: Describe the objectives of a veterinarian to meet the needs of the shortage situation in the community, area, State/insular area, or position requested above.

20 points: Describe the activities required of a veterinarian to meet the needs of the shortage situation located in the community, area, State/insular area, or position requested above.

5 points: Describe any past efforts to recruit and retain a veterinarian to achieve the objectives and activities in the shortage situation identified above.

35 points: Describe the risk of this veterinarian position not being filled or retained. Include the risk(s) to the production of a safe and wholesome food supply and/or to animal, human, and environmental health not only in the community but in the region, State/insular area, nation, and/or international community.

An additional 20 points will be used to evaluate overall merit/quality of the case made for each nomination.

Done in Washington, DC, this day of August 31, 2017.
Robert Holland,
Associate Director for Operations, National Institute of Food and Agriculture.

[FR Doc. 2017-18927 Filed 9-6-17; 8:45 am]

BILLING CODE P